DEPARTMENT OF DEFENSE

Department of the Navy

Notice of Public Meetings for Surveillance Towed Array Sensor System Low-Frequency Array Sonar Training and Testing Supplemental Environmental Impact Statement/Overseas Environmental Impact Statement in the Western North Pacific and Indian Oceans (ID# SEIS-007-17-USN-1727716941)

AGENCY: Department of the Navy (DoN), Department of Defense (DoD).

ACTION: Notice.

SUMMARY: Pursuant to the National Environmental Policy Act (NEPA) and Presidential Executive Order 12114, DoN has prepared and filed with the U.S. Environmental Protection Agency a Draft Supplemental Environmental Impact Statement/Overseas Environmental Impact Statement (SEIS/OEIS) for Surveillance Towed Array Sensor System Low-Frequency Active (SURTASS LFA) Sonar Training and Testing in the Western North Pacific and Indian Oceans. The Draft SEIS/OEIS includes an analysis of the potential environmental impacts associated with conducting at-sea training and testing activities within the SURTASS LFA Study Area. The purpose of the Proposed Action is to perform training and testing activities that ensure the Navy remains proficient in the use of SURTASS LFA sonar in support of the Navy's mission.

DATES: The 45-day public comment period begins June 13, 2025 and ends July 28, 2025. In support of NEPA requirements, virtual public meetings will be held in July 2025 to provide an overview of the Draft SEIS/OEIS and answer questions from the public. The public can submit comments during the Draft SEIS/OEIS public review and comment period via the project website (www.nepa.navy.mil/surtass-lfa/), or via U.S. mail. Public comments on the Draft SEIS/OEIS must be postmarked or received online by 11:59 p.m. Hawaii Standard Time (HST) Monday, July 28, 2025, for consideration in the preparation of the Final SEIS/OEIS.

Two virtual public meetings will be held as follows:

1. July 8, 2025, from 12:00 p.m. to 1:00 p.m. HST

2. July 14, 2025, from 4:00 p.m. to 5:00 p.m. HST

During the virtual public meetings, Navy representatives will provide a short presentation and answer questions submitted by the public. Questions concerning the Draft SEIS/OEIS will be accepted in advance through July 8, 2025, via the question form on the project website. Questions may also be submitted in writing during the meeting. Questions submitted during the question-and-answer session are not official public comments; public comments should be submitted via the project website (www.nepa.navy.mil/surtass-lfa/), or via U.S. mail. An audio-only option will be available for the virtual public meeting. The project website has more information on attending the virtual public meeting.

Additional materials will be available on the project website to provide more information related to the Proposed Action, its purpose and need, environmental resource areas analyzed in the SEIS/OEIS and potential impacts, the NEPA process, and public involvement opportunities. The public can view the online materials at the project website anytime during the Draft SEIS/OEIS public review and comment period.

ADDRESSES: Comments on the Draft EIS/OEIS may be provided through the project website at: www.nepa.navy.mil/surtass-lfa/, or by U.S. mail to: U.S. Department of the Navy; Attention: SURTASS LFA SEIS/OEIS Project Manager (N46); 250 Makalapa Drive, Pearl Harbor, HI 96860-3131.

FOR FURTHER INFORMATION CONTACT: U.S. Pacific Fleet Command, Attn: Ms. Heather Paynter, Environmental Public Affairs Specialist, 808-474-8441, CPF-Environmental-PA@us.navy.mil, or visit the project website: www.nepa.navy.mil/surtass-lfa/.

SUPPLEMENTARY INFORMATION: Commander, U.S. Pacific Fleet is the DoN's lead action proponent, with Naval Sea Systems Command acting as an additional Navy action proponent.

In continuance of the Navy's commitment to responsible stewardship of the marine environment and building upon analyses and information included in the Navy's 2001 Final EIS/OEIS, 2007 Final SEIS, 2012 Final SEIS/Supplemental OEIS (SOEIS), 2015 Final SEIS/SOEIS, and 2019 Final SEIS/SOEIS, the Navy intends to prepare an updated supplemental assessment of the environmental effects associated with the continued employment of SURTASS LFA sonar systems. The SEIS/OEIS and associated analysis will be used to support consultations associated with expiring regulatory permits and authorizations in 2026.

The Western Pacific and Indian Oceans SURTASS LFA Study Area (hereafter referred to as the “Study Area”) is comprised of the western North Pacific and Indian Oceans. The Navy proposes to continue employing up to four SURTASS LFA sonar systems onboard U.S. Navy surveillance ships for routine training and testing in the Study Area with certain geographical restrictions and other preventive measures designed to mitigate adverse effects on the marine environment. As part of the SEIS/OEIS analyses, the Navy will continue to assess potential impacts of SURTASS LFA sonar systems to offshore biologically important areas. Effectiveness of the mitigation measures that are the foundation of the Navy's training and testing with SURTASS LFA sonar will also be re-assessed in the context of new technologies and methodologies as well as operational practicability.

Potential impacts on environmental resources resulting from activities included in the two Action Alternatives and the No Action Alternative were evaluated in accordance with NEPA. Resources evaluated include, but are not limited to, biological (including marine mammals, sea turtles, fishes, and habitats), ambient acoustic environment, and economics. The SEIS/OEIS also includes an analysis of measures that would avoid, minimize, or mitigate environmental effects potentially resulting from military readiness activities. Direct, indirect, and reasonably foreseeable effects on these resource areas are analyzed in the SEIS/OEIS.

The DoN is coordinating and consulting with appropriate federal agencies as required by the Marine Mammal Protection Act (MMPA), Endangered Species Act (ESA), and National Marine Sanctuaries Act. As part of this process, the Navy is seeking the issuance of regulatory permits and authorizations under MMPA and ESA to support at-sea military readiness activities within the Study Area, beginning in August 2026. The National Marine Fisheries Service (NMFS) is a cooperating agency in the preparation of the SEIS/OEIS. NMFS will consider the potential impacts of the Proposed Action on the marine environment. The SEIS/OEIS will support its rule making process to determine whether to issue an MMPA authorization.

The Navy distributed the Draft SEIS/OEIS to government agencies they are consulting with and to other stakeholders. The Draft SEIS/OEIS is available for public review on the project website at www.nepa.navy.mil/surtass-lfa/ and at these public libraries:

1. Hawaii State Library, 478 S King St., Honolulu, HI 96813.

2. Nieves M. Flores Memorial Public Library, 254 Martyr St., Hagåtña, Guam 96910.

3. Antonio C. Atalig Memorial Library, P.O. Box 537, Rota, MP 96951.

4. Joeten-Kiyu Public Library, The State Library of the Commonwealth of Northern Marianas Islands, P.O. Box 501092, Saipan, MP 96950-1092.

5. Tinian Public Library, P.O. Box 520704, Tinian, MP 96952.

The public involvement process is helpful in identifying public concerns and local issues to be considered during the development of the SEIS/OEIS and assessing the accuracy and adequacy of the environmental impact analysis. Federal, state, and local agencies; nongovernmental organizations; and interested persons are encouraged to provide comments that are substantive to the analysis of potential impacts on environmental resources. All comments provided electronically via the project website or mailed to the address provided in the ADDRESSES section will be taken into consideration during the development of the Final SEIS/OEIS.

Dated: June 4, 2025.
A.R. DeMaio,
Lieutenant Commander, Judge Advocate General's Corps, U.S. Navy, Federal Register Liaison Officer.

[FR Doc. 2025-10454 Filed 6-12-25; 8:45 am]

BILLING CODE 3810-FF-P